FEDERAL COMMUNICATIONS COMMISSION

47 CFR Part 73

[DA 03-3747; MB Docket No.03-195; RM-10745]

Radio Broadcasting Services; Dripping Springs & Marble Falls, TX

AGENCY: Federal Communications Commission.

ACTION: Final rule.

SUMMARY: This document substitutes Channel 285A for Channel 285C2 at Marble Falls, Texas, reallots Channel 285A to Dripping Springs, Texas, and modifies the license for Station KXXS to specify operation Channel 285A at Dripping Springs in response to a petition filed by Amigo Radio, Ltd. See 68 FR 54878, September 19, 2003. The coordinates for Channel 285A at Dripping Springs are 30-11-54 and 98-00-46. Although Mexican concurrence has been requested for the allotment of Channel 285A at Dripping Springs, notification has not been received. Therefore, operation with the facilities specified for channel 285A at Dripping Springs is subject to modification, suspension, or termination without right to hearing, if found by the Commission to be necessary in order to conform to the 1992 USA-Mexico FM Broadcast Agreement or if specifically objected to by Mexico. With this action, this proceeding is terminated.

DATES: Effective January 12, 2004.

FOR FURTHER INFORMATION CONTACT: Kathleen Scheuerle, Media Bureau, (202) 418-2180.

SUPPLEMENTARY INFORMATION: This is a summary of the Commission's Report and Order, MB Docket No. 03-195, adopted November 21, 2003, and released November 26, 2003. The full text of this Commission decision is available for inspection and copying during regular business hours in the FCC's Reference Information Center, Portals II, 445 12th Street, SW., Room CY-A257, Washington, DC 20554. The complete text of this decision may also be purchased from the Commission's duplicating contractor, Natek, Inc., Portals II, 445 12th Street, SW., Room CY-B402, Washington, DC 20554, telephone 202-863-2893.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by removing Marble Falls, Channel 285C2 and by adding Dripping Springs, Channel 285A.

Federal Communications Commission.
John A. Karousos,
Assistant Chief, Audio Division, Media Bureau.

[FR Doc. 03-30766 Filed 12-11-03; 8:45 am]

BILLING CODE 6712-01-P